DEPARTMENT OF TRANSPORTATION

Federal Aviation Administration

14 CFR Part 97

[Docket No. 30337; Amdt. No. 3029]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations and instrument flight rules at the affected airports.

DATES: This rule is effective November 5, 2002. The compliance date for each SIAP is specified in the amendatory provisions.

The incorporation by reference of certain publications listed in the regulations is approved by the Director of the Federal Register as of November 5, 2002.

ADDRESSES: Availability of matters incorporated by reference by the amendment is as follows:

For Examination

1. FAA Rules Docket, FAA Headquarters Building, 800 Independence Avenue, SW., Washington, DC 20591;

2. The FAA Regional Office of the region in which the affected airport is located.

3. The Flight Inspection Area Office which originated the SIAP; or,

4. The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by Superintendence of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 976.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expansive and impractical. Further, airmen do not use the regulatory text of the SIAPs, but refer to their graphic depiction on charts printed by publishers or aeronautical materials. Thus, the advantages of incorporation by reference are realized and publication of the complete description of each SIAP contained in FAA form documents is unnecessary. The provisions of this amendment states the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective data at least 30 days after publication is provided.

Further, the SIAPs contained in this amendment are based on the criteria contained in the U.S. Standard for Terminal Instrument Procedures (TERPS). IN developing these SIAPs, the TERPs criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC on October 25, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 28, 2002

Camden, AR, Harrell Field, VOR/DME RWY 36, Amdt 9

Camden, AR, Harrell Field, NDB RWY 18, Amdt 11

Camden, AR, Harrell Field, RNAV (GPS) RWY 18, Orig

Camden, AR, Harrell Field, RNAV (GPS) RWY 36, Orig

Seymour, IN, Freeman Muni, RNAV (GPS) RWY 23, Orig

Portland, ME, Portland Intl Jetport, RADAR-1, Orig

Portland, ME, Portland Intl Jetport, RNAV (GPS) RWY 18, Orig

Portland, ME, Portland Intl Jetport, RNAV (GPS) RWY 36, Orig

Portland, ME, Portland Intl Jetport, GPS RWY 18, Orig, CANCELLED

Portland, ME, Portland Intl Jetport, GPS RWY 36, Orig, CANCELLED

Akron, OH, Akron-Canton Regional, RNAV (GPS) RWY 14, Orig

Akron, OH, Akron-Canton Regional, RNAV (GPS) RWY 32, Orig

* * * Effective January 23, 2003

Dumas, AR, Billy Free Municipal, NDB RWY 36, Orig-A, CANCELLED

Mountain View, AR, Mountain View Wilcox Memorial Field, NDB-A, Amdt 2

St. Petersburg-Clearwater, FL, St. Petersburg-Clearwater Intl, VOR/DME RWY 17L, Orig

St. Petersburg-Clearwater, FL, St. Petersburg-Clearwater Intl, VOR RWY 17L, Amdt 11B, CANCELLED

Dallas-Fort Worth, TX, Dallas-Fort Worth Intl, CONVERGING ILS RWY 18L, Amdt 3D, CANCELLED

Dallas-Fort Worth, TX, Dallas-Forth Worth Intl, ILS RWY 18L, Amdt 17C, CANCELLED

Dallas-Fort Worth, TX, Dallas-Fort Worth Intl, VOR/DME RNAV RWY 31, Orig-A, CANCELLED

Edna, TX, Jackson County, NDB or GPS-A, Amdt 1, CANCELLED

The FAA published the following procedure in Docket No. 30323; Amdt. No. 3023 to Part 97 of the Federal Aviation Regulations (Vol. 67, FR No. 183, page 59159; dated Friday, September 20, 2002) under section 97.29 effective October 31, 2002 which is hereby rescinded:

Camden, AR, Harrell Field, VOR/DME RWY 36 Amdt 9

Camden, AR, Harrell Field, NDB RWY 18, Amdt 11

Camden, AR, Harrell Field, RNAV (GPS) RWY 18, Orig

Camden, AR, Harrell Field, RNAV (GPS) RWY 36, Orig

[FR Doc. 02-27847 Filed 11-4-02; 8:45 am]

BILLING CODE 4910-13-M